DEPARTMENT OF AGRICULTURE

Forest Service

Bull Run Watershed Management Unit Agreement, Multnomah County, OR

AGENCY: Forest Service, USDA.

ACTION: Notice of Availability of Draft Agreement.

SUMMARY: The Mt. Hood National Forest (Forest) in coordination with the City of Portland Water Bureau (City) is preparing a new Bull Run Watershed Management Unit Agreement pursuant to Public Law 95-200, Section 2(d). This Agreement will guide and be applicable to all occupancy, use, and management of the Bull Run Watershed Management Unit by the City and the Forest. This Agreement will replace the existing 1979 Memorandum of Understanding (MOU). The new Agreement will provide the revised administrative direction and agreements needed to structure the parties' roles, responsibilities, business processes and working relationships for the coming decades. Consideration and approval of the Agreement is scheduled for June 2007. The Forest and the City invite written comments on the content and scope of the Agreement. A copy of the draft Agreement is available on the following Internet Web sites, http://www.fs.fed.us/r6/mthood or http://www.potlandonline.com/water/. Hard copies of the draft Agreement may be obtained by contacting the contact person listed below.

DATES: Comments concerning the content and scope of analysis should be postmarked by April 16, 2007. Two Public meetings are scheduled. The meeting dates are:

1. March 20, 2007, 5:30 p.m. to 7:30 p.m., Portland, OR.

2. March 21, 2007, 6 p.m. to 8 p.m., Sandy, OR.

ADDRESSES: Send written comments and suggestions concerning the Agreement to Gary Larsen, Forest Supervisor, Mt. Hood National Forest, 16400 Champion Way, Sandy, Oregon 97055-7248. Comment may also be emailed to: comments-pacificnorthwest-mthood@fs.fed.us. Include your name and mailing address with your comments so documents pertaining to this Agreement may be mailed to you. The meeting location are:

1. Portland—Jean Vollum Natural Capital Center—Billy Frank Jr. Conference Center, 721 NW., 9th Avenue, Portland, OR 97209.

2. Sandy—Mt Hood National Forest Headquarters, 16400 Champion Way, Sandy, OR 97030.

FOR FURTHER INFORMATION CONTACT: Questions about the Agreement or requests for copies should be directed to Rick Acosta, Mt. Hood National Forest, Public Affairs Officer, 16400 Champion Way, Sandy, Oregon, 97055-7248, (e-mal: racosta@fs.fed.us), or phone: 503-668-1791, or Terry Black, City of Portland Water Bureau, Outreach Specialist, 1120 SW., 5th Avenue, Portland, OR 97204, (e-mail: Terry.Black@ci.portland.or.us), or phone: 503-823-1168.

SUPPLEMENTARY INFORMATION: The Bull Run watershed, located in the Mt. Hood National Forest, is the largest and oldest of the several water supplies serving the Portland metropolitan area. Its role in the region's past, present and future, along with its unprecedented level of water quality, make it a high priority for both the City and the Forest Service to take the steps necessary to ensure its continuing quality, productivity and protection.

As the City and the Forest Service began to look closely at the administrative and policy frameworks that guided their interactions they noted that much of that framework dated from the late 1970s and arose from the direction provided in the 1977 Bull Run Management Act (Pub. L. 95-200). As little of that framework had been updated over time, its applicability to current issues and needs is limited. Thus, this Agreement replaces the existing 1979 MOU, aligns practice with existing legislation, and provides the revised administrative direction and agreements needed to structure the parties' roles, responsibilities, business process and working relationships for the coming decades.

The City and the Forest Service, along with community interests in the greater Portland metropolitan area, have had a long and sometimes contentious history of working together to protect and manage the valuable ecological and water resources of the Bull Run watershed. But with the coming of the 21st century, the issues and conflicts in policy and direction that held attention for the last fifty years have all but disappeared. Now, the parties are turning to the future, responding to new fiscal realities, and working together to frame the structures, processes, roles and responsibilities that will allow them to act effectively as joint stewards of this valuable regional and national resource, in concert with citizens who increasingly desire to redeem their responsibilities in stewardship of their lands.

Officials from the City of Portland and the Mount Hood National Forest are proposing a new Agreement between the City and the Forest Service to identify preferred administrative arrangements for their joint management of the Bull Run Watershed Management Unit. The purpose and hope of the Agreement is to document a new and more relevant relationship between the City and the Forest Service for the long-term stewardship of the Bull Run Watershed Management Unit that is built on a firm foundation of citizen involvement.

The final Agreement is scheduled to be available in June 2007. In completing the Agreement, the Forest and the City will respond to comments received during the comment period. The Agency officials are Gary Larsen, Forest Supervisor, Mt. Hood National Forest for the Forest Service, and the City official is Randy Leonard, Commissioner-in-Charge, City of Portland Water Bureau for the City of Portland.

(Authority: Sec. 2, Pub. L. 95-200, 91 Stat. 1425 (16 U.S.C. 482b)

Dated: February 12, 2007.
Gary L. Larsen,
Forest Supervisor.

[FR Doc. 07-717 Filed 2-15-07; 8:45 am]

BILLING CODE 3410-11-M